GENERAL SERVICES ADMINISTRATION

48 CFR Parts 501, 515, 538, and 552

[GSAR Case 2013-G502; Docket 2019-0008; Sequence 1]

RIN 3090-AJ41

General Services Administration Acquisition Regulation (GSAR); Federal Supply Schedule Contracting (Administrative Changes); Correction

AGENCY: Office of Acquisition Policy, General Services Administration.

ACTION: Final rule; correction.

SUMMARY: GSA is issuing a correction to GSAR Case 2013-G502; Federal Supply Schedule Contracting (Administrative Changes), which was published in the Federal Register on April 23, 2019. This correction corrects GSAR clause numbers and titles.

DATES: Effective: May 23, 2019.

FOR FURTHER INFORMATION CONTACT: Ms. Dana Bowman, General Services Acquisition Policy Division, GSA, 202-357-9652 or email Dana.Bowman@gsa.gov, for clarification of content. For information pertaining to status or publication schedules, contact the Regulatory Secretariat at 202-501-4755. Please cite GSAR Case 2013-G502; Corrections.

SUPPLEMENTARY INFORMATION:

Corrections

In rule FR Doc. 2019-08012, published in the Federal Register at 84 FR 17030, on April 23, 2019, make the following corrections:

Preamble Corrections

1. On page 17033, left column, paragraph 4. Revised Existing Clauses and Provisions, correct the GSAR clauses table to read as follows:

No. | Name | Description of change
552.212-71 | Contract Terms and Conditions Applicable to GSA Acquisition Commercial Items | Updated to remove unnecessary clauses and outdated FSS clauses.
552.238-73 | Identification of Electronic Office Equipment Providing Accessibility for the Handicapped | Prescription update to use only in FSS solicitations for electronic office equipment.
552.238-77 | Submission and Distribution of Authorized Federal Supply Schedule (FSS) Price Lists | Prescription updated to use in all FSS solicitations and contracts.
552.238-78 | Identification of Products that have Environmental Attributes | Prescription updated to use only in FSS solicitations and contracts that contemplate items with environmental attributes.
552.238-79 | Cancellation | Prescription updated to use in all FSS solicitations and contracts.
552.238-80 | Industrial Funding Fee and Sales Reporting | Prescription updated to use in all FSS solicitations and contracts.
552.238-81 | Price Reductions | Prescription updated to use in all FSS solicitations and contracts.
552.238-82 | Modifications (Federal Supply Schedules) | Prescription updated to use in all FSS solicitations and contracts. (i) Use Alternate I for Federal Supply Schedules that only accept eMod.
552-238-83 | Examination of Records by GSA (Federal Supply Schedules) | Relocated and retitled from 552.215-71, Examination of Records by GSA (Multiple Award Schedule) as this is an FSS-specific clause.
552.238-113 | Scope of Contract (Eligible Ordering Activities) | Updated to reference the correct payment clause, FAR 52.232-36, Payment by Third Party.

2. On page 17034, left column, correct the first bulleted paragraph to read as follows:

• New Clauses and Provisions: Forty-three (43) new FSS-specific clauses and provisions were contemplated in the proposed rule for public comment. The proposed rule published incorrectly stated this number as thirty-five (35) and listed forty-five (45) clauses. However, 552.238-82 (Proposed Rule), now 552.238-86 (Final Rule), Delivery Schedule was incorrectly included in the “new” clause list rather than the “reinstated” clause list. In addition, 552.238-94 (Proposed Rule), now 552.238-83 (Final Rule), Examination of Records by GSA (Federal Supply Schedules) was incorrectly included in the “new” clause list rather than the “revised existing” clause list. So, the correct number was forty-three (43) “new” FSS-specific clauses in the proposed rule. After taking into consideration public comments received from the proposed rule, thirty (30) new FSS-specific clauses and provisions are incorporated into GSAR parts 538 and 552 in the final rule.

3. On page 17034, middle column, correct the first solidly bulleted paragraph to read as follows:

• Reinstated Clauses and Provisions: Seven (7) FSS-specific clauses and provisions were contemplated for reinstatement in the proposed rule for public comment. The proposed rule published incorrectly identified this number as six (6), because 552.238-82 (Proposed Rule), now 552.238-86 (Final Rule) Delivery Schedule was incorrectly included in the list of “new” FSS-specific clauses rather than the “reinstated” clauses. After taking into consideration public comments received from the proposed rule, four (4) FSS-specific clauses and provisions are reinstated into GSAR parts 538 and 552 in the final rule.

4. On page 17034, middle column, correct the second solidly bulleted paragraph to read as follows:

• Revised Existing Clauses and Provisions: Nine (9) existing clauses and provisions were contemplated for revision in the proposed rule for public comment. The proposed rule published incorrectly identified this number as seven (7) clauses. However, GSAR clause 552.238-94 Examination of Records by GSA (Federal Supply Schedules) (Proposed Rule), now 552.238-83 (Final Rule), was incorrectly included in the list of “new” FSS-specific clauses rather than the “revised existing” clauses. In addition, GSAR clause 552.238-78 Scope of Contract (Eligible Ordering Activities) (Proposed Rule), 552.238-113 (Final Rule), is revised to replace the reference to GSAR clause 552.232-79 Payment by Credit Card, which is redundant to FAR clause 52.232-36 Payment by Third Party, and is now included in the list of “revised existing” clauses.

Regulatory Text Corrections

5. On page 17040, in 538.273, correct the last sentence in paragraph (d)(4) and correct paragraphs (d)(5) and (d)(6)(ii) to read as follows:

538.273 FSS solicitation provisions and contract clauses.

* * * * *

(d) * * *

(4) * * * Clause 552.238-81 Alternate I should also be used when vendors agree to include clause 552.238-80 Alternate I in the contract.

(5) 552.238-81, Price Reductions. Use Alternate I for Federal Supply Schedules with Transactional Data Reporting requirements. This alternate clause is used when vendors agree to include clause 552.238-80 Alternate I in the contract.

(6) * * *

(ii) Use Alternate II for Federal Supply Schedules with Transactional Data Reporting requirements. This alternate clause is used when vendors agree to include clause 552.238-80 Alternate I in the contract.

* * * * *

6. On page 17046, right column, correct 552.238-83 to read as follows:

552.238-83 Examination of Records by GSA (Federal Supply Schedules).

As prescribed in 538.273(d)(7) insert the following clause:

Examination of Records by GSA (May 2019)

The Contractor agrees that the Administrator of General Services or any duly authorized representative shall have access to and the right to examine any books, documents, papers and records of the contractor involving transactions related to this contract for overbillings, billing errors, compliance with contract clauses 552.238-81, Price Reductions and 552.238-80, Industrial Funding Fee and Sales Reporting. This authority shall expire 3 years after final payment. The basic contract and each option shall be treated as separate contracts for purposes of applying this clause.

(End of clause)

552.238-88 [Corrected]

7. In 552.238-88:

a. On page 17047, right column, in the second sentence in paragraph (a), correct “552.238-111” to read “552.238-103”; and

b. On page 17048, left column, in paragraph (b), correct “552.238-71” to read “552.238-77” and correct “552.238-81” to read “552.238-82”.

8. On page 17050, middle column, correct 552.238-105 to read as follows:

552.238-105 Deliveries Beyond the Contractual Period—Placing of Orders.

As prescribed in 538.273(d)(29), insert the following clause:

Deliveries Beyond the Contractual Period—Placing of Orders (May 2019)

In accordance with Clause 552.238-113, Scope of Contract (Eligible Ordering Activities), this contract covers all requirements that may be ordered, as distinguished from delivered during the contract term. This is for the purpose of providing continuity of supply or operations by permitting ordering activities to place orders as requirements arise in the normal course of operations. Accordingly, any order mailed (or received, if forwarded by other means than through the mail) to the Contractor on or before the expiration date of the contract, and providing for delivery within the number of days specified in the contract, shall constitute a valid order.

(End of clause)

552.238-110 [Corrected]

9. On page 17051, right column, in 552.238-110, in paragraph (c), correct “552.238-90” to read “552.238-86”.

Jeffrey A. Koses,
Senior Procurement Executive, Office of Acquisition Policy, Office of Government-wide Policy.

[FR Doc. 2019-09910 Filed 5-16-19; 8:45 am]

BILLING CODE P